DEPARTMENT OF HEALTH AND HUMAN SERVICES

Indian Health Service

Change in Publication Policy of Notices of Funding Opportunity

Per the current policy of the Department of Health and Human Services, the Indian Health Service (IHS) will begin using Grants.gov as the primary publication outlet for IHS Notices of Funding Opportunity (NOFO), as of February 1, 2024. Links to the announcement in Grants.gov and to the NOFO will be posted to the IHS Division of Grants Management website, at https://www.ihs.gov/dgm/funding/.

Any questions regarding this change should be directed to the Division of Grants Management by email to DGM@ihs.gov.

Roselyn Tso,
Director, Indian Health Service.

[FR Doc. 2024-06679 Filed 3-28-24; 8:45 am]

BILLING CODE 4166-14-P